DEPARTMENT OF JUSTICE

Antitrust Division

Notice Pursuant to the National Cooperative Research and Production Act of 1993—Border Security Technology Consortium

Notice is hereby given that, on January 23, 2020, pursuant to Section 6(a) of the National Cooperative Research and Production Act of 1993, 15 U.S.C. 4301 et seq. (“the Act”), Border Security Technology Consortium (“BSTC”) has filed written notifications simultaneously with the Attorney General and the Federal Trade Commission disclosing changes in its membership. The notifications were filed for the purpose of extending the Act's provisions limiting the recovery of antitrust plaintiffs to actual damages under specified circumstances. Specifically, The University of Southern Mississippi, Hattiesburg, MS; Robotic Research, LLC, Gaithersburg, MD; Hamilton Sundstrand Corporation, San Dimas, CA; Tyto Athene, LLC, Herndon, VA; videoNEXT Federal, Inc., Reston, VA; Sev1Tech, LLC, Woodbridge, VA; and DRS Sustainment Systems, Inc., St. Louis, MO; have been added as parties to this venture.

Also, Verizon Business Network Services Inc., Ashburn, VA; Integration Innovation, Inc. (i3), Huntsville, AL; Echodyne Corp., Kirkland, WA; Applied Research Associates, Inc. (ARA), Albuquerque, NM; BEI Communications, Inc. DBA BEI Security, San Antonio, TX; Cambridge International Systems, Inc., Arlington, VA; Adelos, Inc., Polson, MT; DRS Tactical Systems, Inc., Mebourne, FL; SRI International, Menlo Park, CA; Thruvision Inc., Ashburn, VA; MRIGlobal, Kansas City, MO; videoNEXT Federal, Inc., Reston, VA; Kratos Defense & Rocket Support Services, Inc., Huntsville, AL; and Aventura Technologies, Inc., Hauppauge, NY; have withdrawn as parties to this venture.

No other changes have been made in either the membership or planned activity of the group research project. Membership in this group research project remains open and BSTC intends to file additional written notifications disclosing all changes in membership.

On May 30, 2012, BSTC filed its original notification pursuant to Section 6(a) of the Act. The Department of Justice published a notice in the Federal Register pursuant to Section 6(b) of the Act on June 18, 2012 (77 FR 36292).

The last notification was filed with the Department on November 11, 2019. A notice was published in the Federal Register pursuant to section 6(b) of the Act on December 5, 2019 (84 FR 66696).

Suzanne Morris,
Chief, Premerger and Division Statistics, Antitrust Division.

[FR Doc. 2020-04027 Filed 2-26-20; 8:45 am]

BILLING CODE 4410-11-P